DEPARTMENT OF TRANSPORTATION

Federal Aviation Administration

[Docket No. FAA-2022-1565]

Agency Information Collection Activities: Requests for Comments; Clearance of Renewed Approval of Information Collection: Mitsubishi MU-2B Series Airplane Training Requirements

AGENCY: Federal Aviation Administration (FAA), DOT.

ACTION: Notice and request for comments.

SUMMARY: In accordance with the Paperwork Reduction Act of 1995, FAA invites public comments about our intention to request the Office of Management and Budget (OMB) approval to renew an information collection. The collection of information is necessary to document participation in, completion of, and compliance with the pilot training program for the MU-2B series airplane.

DATES: Written comments should be submitted by January 20, 2023.

ADDRESSES: Please send written comments:

By Electronic Docket: www.regulations.gov (Enter docket number into search field).

By mail: Christopher Morris, AFS-850, 800 Independence Ave. SW, Washington, DC 20591.

By email: chris.morris@faa.gov.

FOR FURTHER INFORMATION CONTACT: Paul Penner by email at: paul.penner@faa.gov; phone: 818-267-3343.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0725.

Title: Mitsubishi MU-2B Series Airplane Special Training Requirements.

Form Numbers: There are no FAA forms associated with this collection.

Type of Review: Renewal.

Background: In response to the increasing number of accidents and incidents involving the Mitsubishi MU-2B series airplane, the Federal Aviation Administration (FAA) began a safety evaluation of the MU-2B in July of 2005. As a result of this safety evaluation, on February 6, 2008 the FAA issued Special Federal Aviation Regulation No. 108—Mitsubishi MU-2B Series Special Training, Experience, and Operating Requirements. This Special Federal Aviation Regulation (SFAR) established a standardized pilot training program. The collection of information is necessary to document participation in, completion of, and compliance with the pilot training program for the MU-2B under subpart N of part 91, issued on September 7, 2016, which superseded SFAR No. 108.

Respondents: Approximately 15 part 91 training providers, and approximately 250 active MU-2 pilots.

Frequency: Every year (pilots); every two years (training providers).

Estimated Average Burden per Response: Pilots: Logbook endorsement and training course final phase check = 10 minutes. Training providers: Submission of training program = 4 hours.

Estimated Total Annual Burden: Pilots: 21 hours. Training providers: 30 hours. Total: 51 hours.

Issued in Washington, DC, on November 16, 2022.
D.C. Morris,
Project Manager, Flight Standards Service, General Aviation and Commercial Division.

[FR Doc. 2022-25278 Filed 11-18-22; 8:45 am]

BILLING CODE 4910-13-P